DEPARTMENT OF TRANSPORTATION

Pipeline and Hazardous Materials Safety Administration

Hazardous Materials: Notice of Applications for Special Permits

AGENCY: Pipeline and Hazardous Materials Safety Administration (PHMSA), DOT.

ACTION: Notice of actions on special permit applications.

SUMMARY: In accordance with the procedures governing the application for, and the processing of, special permits from the Department of Transportation's Hazardous Material Regulations, notice is hereby given that the Office of Hazardous Materials Safety has received the application described herein.

DATES: Comments must be received on or before June 11, 2018.

ADDRESSES: Record Center, Pipeline and Hazardous Materials Safety Administration U.S. Department of Transportation Washington, DC 20590.

Comments should refer to the application number and be submitted in triplicate. If confirmation of receipt of comments is desired, include a self-addressed stamped postcard showing the special permit number.

FOR FURTHER INFORMATION CONTACT: Ryan Paquet, Director, Office of Hazardous Materials Approvals and Permits Division, Pipeline and Hazardous Materials Safety Administration, U.S. Department of Transportation, East Building, PHH-30, 1200 New Jersey Avenue Southeast, Washington, DC 20590-0001, (202) 366-4535.

SUPPLEMENTARY INFORMATION: Copies of the applications are available for inspection in the Records Center, East Building, PHH-30, 1200 New Jersey Avenue Southeast, Washington DC or at http://regulations.gov.

This notice of receipt of applications for special permit is published in accordance with part 107 of the Federal hazardous materials transportation law (49 U.S.C. 5117(b); 49 CFR 1.53(b)).

Issued in Washington, DC, on May 3, 2018.
Donald P. Burger,
Chief, General Approvals and Permits Branch.

Application No. | Applicant | Regulation(s) affected | Nature of the special permits thereof
Special Permits Data—Granted
6293-M | ATK Launch Systems Inc. | 173.56(b) | To modify the special permit to authorize a change in water volume of a spent mixed acid by reducing the minimum water content to 16% by volume.
10631-M | Department of Defense (Military Surface Deployment & Distribution Command) |  | To modify the permit to authorize an additional material.
11110-M | United Parcel Service Co. | 171.8, 175.75 | To modify the special permit to authorize additional approved air carriers.
20283-M | LG CHEM | 172.101(j) | To modify the special permit to authorize a variant design of an authorized battery.
20573-N | Siemens Gamesa Renewable Energy, Inc. | 173.222(c) | To authorize the transportation in commerce of hazardous materials in non-DOT specification accumulators that meet the requirements of 49 CFR § 173.306(f)(3) except the accumulators exceed the maximum gas space, and non-DOT specification cylinders that are shipped as components of wind power generating equipment.
20581-N | Harms Pacific Transport Inc | 180.417(a)(3) | To authorize the transportation in commerce of cargo tanks manufactured after August 31, 1995 for which the Manufacturer's Certificate of Compliance is missing.
20634-N | Business Integra Technology Solutions, Inc | 172.101(j), 173.27(b)(2) | To authorize the transportation in commerce of heat pipes containing anhydrous ammonia by cargo-only aircraft.
20636-N | DPC Enterprises | 173.242 | To authorize the one-time transportation in commerce of a MC331 cargo tank containing chlorine with a suspected leak between the pressure relief valve and the manway, which has been repaired temporarily using a Chlorine Institute Kit “C”.

Special Permits Data—Denied
9847-M | FIBA Technologies, Inc |  | To modify the special permit to authorize UE testing of approved Canadian cylinders.
10922-M | FIBA Technologies, Inc | 173.302(a), 180.205, 180.207(d)(1), 172.302(c) | To modify the special permit to authorize UE testing of approved Canadian cylinders.
12607-M | FIBA Technologies, Inc | 205, 209, 215 | To modify the special permit to authorize UE testing on approved Canadian cylinders.
14453-M | FIBA Technologies, Inc | 180.209(a), 180.209(b), 180.209(b)(1)(iv) | To modify the special permit to authorize the UE testing of approved Canadian cylinders.
14661-M | FIBA Technologies, Inc | 180.209(a), 180.209(b), 180.209(b)(1)(iv) | To modify the special permit to authorize UE testing of approved Canadian cylinders.
20574-N | Rogue Valley Terminal Railroad Corporation | 174.14(a) | To authorize the transportation in commerce of LPG railcars that are not subject to the 48-hour expedited movement requirements.

Special Permits Data—Withdrawn
20626-N | Aerojet Rocketdyne, Inc | 172.320(a), 173.51(a), 173.56(b) | To authorize the transportation in commerce of a one-time shipment of Class 1 materials that have not previously been approved.
20632-N | Clear View Enterprise LLC | 177.834(h) | To authorize the discharge of certain hazardous materials for portable tanks and IBCs without unloading the packages from the vehicle.

[FR Doc. 2018-09974 Filed 5-9-18; 8:45 am]

BILLING CODE 4909-60-P